DEPARTMENT OF LABOR

Mine Safety and Health Administration

Petitions for Modification

The following parties have filed petitions to modify the application of existing safety standards under section 101(c) of the Federal Mine Safety and Health Act of 1977.

1. Consolidation Coal Company

[Docket No. M-2004-025-C]

Consolidation Coal Company, 1800 Washington Road, Pittsburgh, Pennsylvania 15241 has filed a petition to modify the application of 30 CFR 75.312(c) and (d) (Main mine fan examinations and records) to its Loveridge No. 22 Mine (MSHA I.D. No. 46-01433) located in Marion County, West Virginia. The petitioner requests a modification of the existing standard to permit testing at least every 31 days of the automatic closing door(s) and the automatic fan signal device without shutting down the fan and without removing miners from the mine. The petitioner proposes to provide the fans with an alarm system consisting of a mechanical switch that will be mounted to the fan housing and designed to activate a relay in the fan monitoring panel when the air reversal prevention door is in the closed position. The relay will activate a warning light near the door location and provide an audible and visible alarm at a location where a responsible person will always be on duty when miners are working underground, and will have two-way communication with working sections. The petitioner states that a magnetic switch may be used if approved by the District Manager. The petitioner has listed in this petition for modification specific terms and conditions that will be used when the proposed alternative method is implemented. The petitioner asserts that the proposed alternative method would provide at least the same measure of protection as the existing standard.

2. Ohio County Coal Company

[Docket No. M-2004-026-C]

Ohio County Coal Company, PO Box 39, Centertown, Kentucky 42328 has filed a petition to modify the application of 30 CFR 75.1103-4 (Automatic fire sensor and warning device systems; installation; minimum requirements) to its Big Run Underground Mine (MSHA I.D. No. 15-18552) located in Ohio County, Kentucky. The petitioner proposes to install a carbon monoxide monitoring system as an early warning fire detection system near the center and in the upper third of the belt entry in a location that would not expose personnel working on the system to unsafe situations. The petitioner has listed in this petition for modification specific terms & conditions that will be used when the proposed alternative method is implemented. The petitioner asserts that the proposed alternative method would provide at least the same measure of protection as the existing standard.

3. Snyder Coal Company

[Docket No. M-2004-027-C]

Snyder Coal Company, 66 Snyder Lane, Hegins, Pennsylvania 17938 has filed a petition to modify the application of 30 CFR 49.2 (Availability of mine rescue teams) to its No. 1 Rock Slope (MSHA I.D. No. 36-09256) located in Schuylkill County, Pennsylvania. The petitioner requests a modification of the standard to permit the reduction of two mine rescue teams with five members and one alternate each, to two mine rescue teams of three members with one alternate for either team. The petitioner asserts that an attempt to utilize five or more rescue team members in the mine's confined working places would result in diminution of safety to both the miners at the mine and members of the rescue team, and that the proposed alternative method would provide at least the same measure of protection as the existing standard.

4. Snyder Coal Company

[Docket No. M-2004-028-C]

Snyder Coal Company, 66 Snyder Lane, Hegins, Pennsylvania 17938 has filed a petition to modify the application of 30 CFR 75.1100-2(a) (Quantity and location of firefighting equipment) to its No. 1 Rock Slope (MSHA I.D. No. 36-09256) located in Schuylkill County, Pennsylvania. The petitioner requests a modification of the standard to permit use of only portable fire extinguishers to replace existing requirements where rock dust, water cars, and other water storage equipped with three (3) ten quart pails is not practical. The petitioner proposes to use two (2) portable fire extinguishers near the slope bottom and an additional portable fire extinguisher within 500 feet of the working face for equivalent fire protection for the No. 1 Rock Slope Mine. The petitioner asserts that the proposed alternative method would provide at least the same measure of protection as the existing standard.

5. Snyder Coal Company

[Docket No. M-2004-029-C]

Snyder Coal Company, 66 Snyder Lane, Hegins, Pennsylvania 17938 has filed a petition to modify the application of 30 CFR 75.1200(d) & (i) (Mine map) to its No. 1 Rock Slope Mine (MSHA I.D. No. 36-09256) located in Schuylkill County, Pennsylvania. The petitioner proposes to use cross-sections instead of contour lines through the intake slope, at locations of rock tunnel connections between veins, and at 1,000 foot intervals of advance from the intake slope; and to limit the required mapping of the mine workings above and below to those present within 100 feet of the vein being mined except when veins are interconnected to other veins beyond the 100-foot limit through rock tunnels. The petitioner asserts that due to the steep pitch encountered in mining anthracite coal veins, contours provide no useful information and their presence would make portions of the map illegible. The petitioner further asserts that use of cross-sections in lieu of contour lines has been practiced since the late 1800's thereby providing critical information relative to the spacing between veins and proximity to other mine workings which fluctuate considerably. The petitioner asserts that the proposed alternative method would provide at least the same measure of protection as the existing standard.

6. Snyder Coal Company

[Docket No. M-2004-030-C]

Snyder Coal Company, 66 Snyder Lane, Hegins, Pennsylvania 17938 has filed a petition to modify the application of 30 CFR 75.1202 and 75.1202-1(a) (Temporary notations, revisions, and supplements) to its No. 1 Rock Slope Mine (MSHA I.D. No. 36-09256) located in Schuylkill County, Pennsylvania. The petitioner proposes to revise and supplement mine maps annually instead of every 6 months as required, and to update maps daily by hand notations. The petitioner also proposes to conduct surveys prior to commencing retreat mining and whenever either a drilling program under 30 CFR 75.388 or plan for mining into inaccessible areas under 30 CFR 75.389 is required. The petitioner asserts that the proposed alternative method would provide at least the same measure of protection as the existing standard.

7. Eastern Associated Coal Corporation

[Docket No. M-2004-031-C]

Eastern Associated Coal Corporation, 1970 Barrett Court, PO Box 1990, Henderson, Kentucky 42419 has filed a petition to modify the application of 30 CFR 75.364(b)(7) (Weekly examination) to its Federal No. 2 Mine (MSHA I.D. No. 46-01456) located in Monogalia County, West Virginia. The petitioner requests a modification of the existing standard to permit the use of a 480-volt 3 phase alternating current electric power circuit for its non-permissible deep well submersible pump that would: (i) Contain either a direct or derived neutral resistor at the source transformer or power center, and a grounding circuit originating at the grounded side of the grounding resistor extended along with the power conductors and serve as the grounding conductor for the frame of the pump; (ii) contain a grounding resistor that limits the ground fault current to not more than 15 amperes, and rated for the maximum fault current available and insulated from the ground for a voltage equal to the phase-to-phase voltage of the system; (iii) provide protection by suitable circuit breaker of adequate interrupting capacity with devices to provide protection against under voltage, grounded phase, short-circuit, and overload; (iv) contain a disconnecting device installed in conjunction with the circuit breaker to provide visual evidence that the power is disconnected; and (v) provide controls to shut the pumps down in low flow conditions. The petitioner states that the controls will monitor for low current which is an indication of low flow conditions; that a certified person will conduct weekly electrical checks; and that the monthly examination of electrical equipment required by 30 CFR 77.502 will include a functional test of the grounded phase protective devices to determine the proper operation and record. The results of the functional tests will be recorded in the approved “Examination of Electrical Equipment” record books. The petitioner asserts that the proposed alternative method would provide at least the same measure of protection as the existing standard.

8. Cotter Corporation

[Docket No. M-2004-007-M]

Cotter Corporation, 7800 E. Dorado Place, Suite 210, Englewood, Colorado 80111 has filed a petition to modify the application of 30 CFR 57.11055 (Inclined escapeways) to its C-JD-9 Mine (MSHA I.D. No. 05-03066) located in Montrose County, Colorado. The petitioner requests modification of the existing standard to permit the portable emergency hoisting facility (truck) to be stored in a safe area at the Nucla, Colorado office and yard and transported to the mine site when necessary for the emergency escape of the miners, and allow the provisions of 30 CFR 57.11050(b) to be used until the emergency hoisting facility is located over the borehole and ready to evacuate the miners. The petitioner has listed in this petition specific terms and conditions that will be applied when the proposed alternative method is implemented. The petitioner asserts that the proposed alternative method would provide at least the same measure of protection as the existing standard.

Request for Comments: Persons interested in these petitions are encouraged to submit comments via e-mail to comments@msha.gov, by fax at (202) 693-9441, or by regular mail to the Office of Standards, Regulations, and Variances, Mine Safety and Health Administration, 1100 Wilson Boulevard, Room 2350, Arlington, Virginia 22209. All comments must be postmarked or received in that office on or before August 20, 2004. Copies of these petitions are available for inspection at that address.

Dated at Arlington, Virginia this 15th day of July 2004.
Marvin W. Nichols, Jr.,
Director, Office of Standards, Regulations, and Variances.

[FR Doc. 04-16481 Filed 7-20-04; 8:45 am]

BILLING CODE 4510-43-P